ENVIRONMENTAL PROTECTION AGENCY

[EPA-HQ-OAR-2005-0172; FRL-8017-3]

Draft Staff Paper for Ozone; Extension of Comment Period

AGENCY: Environmental Protection Agency (EPA).

ACTION: Announcement of extension of public comment period.

SUMMARY: The EPA is announcing that the public comment period for this review is being extended to January 17, 2006.

DATES: The public comment period for this review is extended to January 17, 2006. Please refer to SUPPLEMENTARY INFORMATION for additional information.

ADDRESSES: Submit your comments identified by Docket ID No. EPA-HQ-OAR-2005-0172 by one of the following methods:

• www.regulations.gov. Follow the on-line instructions for submitting comments.

• E-mail: a-and-r-Docket@epa.gov.

• Fax: 202-564-1749.

• Mail: Air and Radiation Docket and Information Center, Environmental Protection Agency, Mailcode 6102T, 1200 Pennsylvania Ave., NW., Washington, DC 20460. Please include a total of two copies.

• Hand Delivery: Public Reading Room, Room B102, EPA West Building, 1301 Constitution Avenue, NW., Washington, DC.

Instructions: Direct your comments to Docket ID No. EPA-HQ-OAR-2005-0172. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov website is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Docket Center address listed above. The Public Reading Room is open from 8:30 a.m. to 4:30 p.m. Monday through Friday, excluding legal holidays. The telephone number for the Public Reading Room is 202-566-1744.

FOR FURTHER INFORMATION CONTACT: Any questions concerning the first draft Ozone Staff Paper and first draft related Technical Support Documents (Ozone Exposure Analysis and Risk Assessment) should be addressed to David McKee, U.S. Environmental Protection Agency, Office of Air Quality Planning and Standards, Mail Code C539-01, Research Triangle Park, NC 27711, phone number (919) 541-5288 or by e-mail at: mckee.dave@epa.gov.

SUPPLEMENTARY INFORMATION: Extension of public comment period. The first draft Ozone Staff Paper and first draft related Technical Support Documents were made available on the web and notice published in the Federal Register on November 17, 2005 (70 FR 69761). Since the public comment period would have concluded on December 31, 2005, EPA has decided to extend the comment period until January 17, 2006, in order to avoid the December holiday period and allow interested parties to have additional time to prepare their comments.

How Can I Get Copies of This Document and Other Related Information?

The EPA has established the official public docket for the Rule to Review the Ozone National Ambient Air Quality Standards under Docket ID No. EPA-HQ-OAR-2005-0172.

Dated: December 21, 2005.
Thomas C. Curran,
Acting Director, Office of Air Quality Planning and Standards.

[FR Doc. 05-24608 Filed 12-28-05; 8:45 am]

BILLING CODE 6560-50-P